DEPARTMENT OF TRANSPORTATION

Surface Transportation Board

49 CFR Parts 1121, 1150, and 1180

[Docket No. EP 714]

Information Required in Notices and Petitions Containing Interchange Commitments

AGENCY: Surface Transportation Board, DOT.

ACTION: Notice of OMB Approval of Information Collection.

SUMMARY: Pursuant to the Paperwork Reduction Act, 44 U.S.C. 3501—3519 (PRA) and Office of Management and Budget (OMB) regulations at 5 CFR 1320.11, the Surface Transportation Board has obtained OMB approval for the collection of information adopted by the Board in Information Required in Notices and Petitions Containing Interchange Commitments, STB Ex Parte No. 714 (STB served Sept. 5, 2013). See also 78 FR 54589 (Sept. 5, 2013).

This collection, which is codified at 49 CFR Parts 1121, 1150, and 1180, has been assigned OMB Control No. 2140-0016. Unless renewed, OMB approval expires on November 30, 2016. The display of a currently valid OMB control number for this collection is required by law. Under the PRA and 5 CFR 1320.8, an agency may not conduct or sponsor, and a person is not required to respond to, a collection of information unless the collection displays a currently valid OMB control number.

DATES: Effective November 29, 2013.

FOR FURTHER INFORMATION CONTACT: Marilyn Levitt, Office of General Counsel, (202) 245-0269.

Jeffrey Herzig,
Clearance Clerk.

[FR Doc. 2013-28614 Filed 11-27-13; 8:45 am]

BILLING CODE 4915-01-P